DEPARTMENT OF COMMERCE

Patent and Trademark Office

Agency Information Collection Activities; Submission to the Office of Management and Budget (OMB) for Review and Approval; Comment Request; Law School Clinic Certification Program

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on December 21, 2022, during a 60-day comment period. This notice allows for an additional 30 days for public comments.

Agency: United States Patent and Trademark Office, Department of Commerce.

Title: Law School Clinic Certification Program.

OMB Control Number: 0651-0081.

Needs and Uses: Public Law 113-227 (Dec. 16, 2014) requires the United States Patent and Trademark Office to establish regulations and procedures for application to, and participation in, the USPTO Law School Clinic Certification Program. The Program allows students enrolled in a participating law school's clinic to practice patent or trademark law before the USPTO under the direct supervision of an approved faculty clinic supervisor. Each clinic provides legal services on a pro bono basis for clients who qualify for assistance from the law school's clinic. By drafting, filing, and prosecuting patent and trademark applications, students gain valuable experience that would otherwise be unavailable to them while in law school. The program also facilitates the provision of pro bono services to patent and trademark applicants who lack the financial resources necessary for traditional legal representation. Currently, 62 law schools participate in the program; a slight increase from the estimated number of law schools listed in the 60-day notice.

This information collection covers the applications from law schools that wish to enter the program, faculty advisors who seek to become a faculty clinic supervisor, and students who seek to participate in this program. The collection also includes the required semiannual reports from participating law school clinics and biennial renewals required by the program as well as the request to make special under the Law School Clinic Certification Program, which allows a limited number of applications per semester to be advanced out of turn (accorded special status) for examination if the applicant makes the appropriate showing, to provide law students with practical experience as they will be more likely to receive substantive examination of applications within the school year that the application is filed.

Form Number(s): (LS = Law School; SB = Specimen Book).

• PTO-158LS (Application for Limited Recognition in USPTO Law School Program for Law Students to Practice Before the USPTO).

• PTO/SB/419 (Certification and Request to Make Special under the Law School Program).

Type of Review: Extension and revision of a currently approved information collection.

Affected Public: Private sector; individuals or households.

Respondent's Obligation: Required to obtain or retain benefits.

Frequency: On occasion; semi-annually; biennially.

Estimated Number of Annual Respondents: 863 respondents.

Estimated Number of Annual Responses: 925 responses.

Estimated Time per Response: The USPTO estimates that the responses in this information collection will take respondents approximately between 30 minutes (0.5 hours) and 40 hours to complete. This includes the time to gather the necessary information, create the document, and submit the completed request to the USPTO.

Estimated Total Annual Respondent Burden Hours: 1,241 hours.

Estimated Total Annual Respondent Non-Hourly Cost Burden: $46.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0081.

Further information can be obtained by:

• Email: InformationCollection@uspto.gov. Include “0651-0081 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2023-04754 Filed 3-7-23; 8:45 a.m.]

BILLING CODE 3510-16-P